GENERAL SERVICES ADMINISTRATION

[Notice-PBS-2018-11; Docket No. 2018-0002; Sequence No. 27]

Notice of Intent To Prepare a Supplemental Environmental Impact Statement for the Proposed U.S. Department of Homeland Security (DHS) Headquarters Consolidation at St. Elizabeths Master Plan Amendment #2

AGENCY: National Capital Region, Public Buildings Service U.S. General Services Administration (GSA).

ACTION: Notice of intent to prepare a Supplemental Environmental Impact Statement.

SUMMARY: GSA plans to prepare a Supplemental Environmental Impact Statement (SEIS) for the proposed Master Plan Amendment to support the continued consolidation of the U.S. Department of Homeland Security (DHS) Headquarters at the St. Elizabeths West Campus, pursuant to the requirements of the National Environmental Policy Act (NEPA), Council on Environmental Quality regulations, and with Section 106 of the National Historic Preservation Act (NHPA) in accordance with 36 CFR part 800.8

DATES: Applicable: Monday, November 5, 2018.

The public scoping meeting date is: Thursday, November 29, 2018, from 6:30 p.m. to 8:30 p.m., Eastern Daylight Time (EDT).

ADDRESSES: R.I.S.E Demonstration Center, 1730 Martin Luther King Jr. Avenue SE, Washington, DC, 20032.

FOR FURTHER INFORMATION CONTACT: Paul Gyamfi, GSA, National Capital Region, Office of Planning and Design Quality, at 202-690-9252. Please contact Mr. Gyamfi if special assistance is needed to attend and participate in the scoping meeting.

SUPPLEMENTARY INFORMATION: GSA intends to prepare a SEIS to analyze the potential impacts resulting from the proposed Master Plan Amendment #2 to support the DHS Headquarters consolidation at the St. Elizabeths West Campus.

Background

In 2008 and in 2012, GSA completed Environmental Impact Statements that analyzed the impacts from the development of 4.5 million square feet of secure office space, plus parking, in the District of Columbia to support the consolidated headquarters of the DHS on the St. Elizabeths East and West Campuses. GSA is preparing a SEIS to assess the impacts of development of the consolidated headquarters on the West Campus of St. Elizabeths. The proposed action is needed to improve efficiency, reflect the current condition of the historic buildings, reduce costs, and accelerate completion of the DHS consolidation. Previous St. Elizabeths Master Plans and Environmental Impact Statements are available for review at http://stelizabethsdevelopment.com/nepa.html.

Alternatives Under Consideration

GSA will analyze a range of alternatives (including the no action alternative) for the proposed Master Plan Amendment #2 of the DHS Headquarters at St. Elizabeths. This Master Plan Amendment will focus on development options to efficiently house DHS and its operating components on the St Elizabeths West Campus.

Scoping Process

A scoping process will be conducted to aid in determining the alternatives to be considered and the scope of issues to be addressed, for identifying the significant issues related to the proposed Master Plan Amendment, in accordance with NEPA and NHPA.

Public Scoping Meeting

A public scoping meeting will be held on Thursday, November 29, 2018, from 6:30 p.m. to 8:30 p.m., EDT at the R.I.S.E Demonstration Center, 1730 Martin Luther King Jr. Avenue SE, Washington, DC 20032. The meeting will be an informal open house where meeting participants may receive information, and give comments. GSA is publishing notices in the Washington Post, Afro-American, and the Washington Informer newspapers announcing the meeting.

Written Comments

Interested parties are encouraged to provide written comments on the SEIS and Section 106 processes. The scoping period begins on November 19, 2018 and ends on December 19, 2018. Comments received during the scoping period will be considered in the analyses to be conducted for the SEIS. Written comments regarding the SEIS must be postmarked no later than December 19, 2018, and sent to the following address: Mr. Paul Gyamfi, Office of Planning and Design Quality, Public Buildings Service, National Capital Region, U.S. General Services Administration, 301 7th Street SW, Suite 4004, Washington, DC, 20407; or by email: Paul.Gyamfi@gsa.gov using the subject line: St. Elizabeths Master Plan Amendment #2. All emails must be received by 11:59 p.m. December 19, 2018.

Dated: November 7, 2018.
Kristi Tunstall Williams,
Deputy Director, Office of Planning and Design Quality, Public Buildings Service, National Capital Region, U.S. General Services Administration.

[FR Doc. 2018-25207 Filed 11-16-18; 8:45 am]

BILLING CODE 6820-YI-P